DEPARTMENT OF THE INTERIOR

National Park Service

[NPS-WASO-NAGPRA-NPS0039606; PPWOCRADN0-PCU00RP14.R50000]

Notice of Inventory Completion: Booth Family Center for Special Collections, Georgetown University, Washington, DC

AGENCY: National Park Service, Interior.

ACTION: Notice.

SUMMARY: In accordance with the Native American Graves Protection and Repatriation Act (NAGPRA), the Booth Family Center for Special Collections, Georgetown University (BFC) has completed an inventory of human remains and has determined that there is a cultural affiliation between the human remains and Indian Tribes or Native Hawaiian organizations in this notice.

DATES: Repatriation of the human remains in this notice may occur on or after April 18, 2025.

ADDRESSES: Keith Gorman, Booth Family Center for Special Collections, Georgetown University, Lauinger Library, 5th Floor, 37th and O Streets NW, Washington, DC 20057-1174, telephone (202) 687-7475, email kg78@georgetown.edu.

SUPPLEMENTARY INFORMATION: This notice is published as part of the National Park Service's administrative responsibilities under NAGPRA. The determinations in this notice are the sole responsibility of the BFC, and additional information on the determinations in this notice, including the results of consultation, can be found in its inventory or related records. The National Park Service is not responsible for the determinations in this notice.

Abstract of Information Available

Human remains representing, at least, one individual have been identified. No associated funerary objects are present. Human hair clippings were included in an envelope found in a box of unrelated materials in the BFC. Also in the envelope was a card from the defunct Georgetown University Coleman Museum. The card identified the clippings as “Big Foot's Hair,” Chief of the tribe massacred at Wounded Knee in South Dakota. Additionally, the card noted that the hair clippings were provided by “Mrs. Lucy Ord Mason, Daughter of General Ord.” Georgetown believes that the hair clippings belonged to Chief Spotted Elk, also known as Chief “Big Foot.”

Cultural Affiliation

Based on the information available and the results of consultation, cultural affiliation is reasonably identified by the geographical location or acquisition history of the human remains and associated funerary objects described in this notice.

Determinations

The BFC has determined that:

• The human remains described in this notice represent the physical remains of one individual of Native American ancestry.

• There is a connection between the human remains described in this notice and the Cheyenne River Sioux Tribe of the Cheyenne River Reservation, South Dakota and the Oglala Sioux Tribe.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after April 18, 2025. If competing requests for repatriation are received, the BFC must determine the most appropriate requestor prior to repatriation. Requests for joint repatriation of the human remains are considered a single request and not competing requests. The BFC is responsible for sending a copy of this notice to the Indian Tribes and Native Hawaiian organizations identified in this notice.

Authority: Native American Graves Protection and Repatriation Act, 25 U.S.C. 3003, and the implementing regulations, 43 CFR 10.10.

Dated: February 25, 2025.
Melanie O'Brien,
Manager, National NAGPRA Program.

[FR Doc. 2025-04625 Filed 3-18-25; 8:45 am]

BILLING CODE 4312-52-P